DEPARTMENT OF THE TREASURY

Community Development Financial Institutions Fund

Proposed Collection; Comment Request

ACTION: Notice and request for comments.

SUMMARY: The Department of Treasury, as part of its continuing effort to reduce paperwork and respondent burden, invites the general public and other Federal agencies to take this opportunity to comment on proposed and/or continuing information collections, as required by the Paperwork Reduction Act of 1995, Pub. L. 104-13 (44 U.S.C. 3506(c)(2)(A)). Currently, the Community Development Financial Institutions Fund (the Fund) within the Department of the Treasury is soliciting comments concerning the Bank Enterprise Award (BEA) Program.

DATES: Written comments should be received on or before June 2, 2000 to be assured of consideration.

ADDRESSES: Direct all comments to Jeannine Jacokes, Community Development Financial Institutions Fund, U.S. Department of the Treasury, 601 13th Street, NW. Suite 200 South, Washington, DC 20005, Fax number (202) 622-7754.

FOR FURTHER INFORMATION CONTACT: Requests for additional information or copies of the form(s) and instructions should be directed to the Community Development Financial Institutions Fund, U.S. Department of the Treasury, 601 13th Street, NW. Suite 200 South, Washington, DC 20005, or call (202) 622-8662.

SUPPLEMENTARY INFORMATION:

Title: Bank Enterprise Award Program Survey.

OMB Number: 1559-0008.

Abstract: The purpose of the Community Development Banking and Financial Institutions Act of 1994 (Act) was to create the Fund to promote economic revitalization and community development through investment in and assistance to Community Development Financial Institutions (CDFIs). The Fund's BEA Program helps achieve this purpose through an incentive system for insured depository institutions to, among other things, increase their lending to and investment in CDFIs by rewarding participating institutions with awards.

Current Actions: The Fund plans to survey BEA awardees in order to measure the effects of the BEA Program on insured depository institution community development activities.

Type of review: Extension.

Affected Public: Insured depository institutions

Estimated Number of Respondents: 50.

Estimated Time Per Respondent: 1 hour.

Estimated Total Annual Burden Hours: 50 hours.

Requests for Comments

Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of technology; and (e) estimates of capital or start-up costs and costs of operation, maintenance, and purchase of services to provide information.

Authority: 12 U.S.C. 1834a, 4701, 4704, 4713; 12 CFR part 1806.

Dated: March 28, 2000.
Maurice A. Jones,
Deputy Director for Policy and Programs, Community Development Financial Institutions Fund.

[FR Doc. 00-8048 Filed 3-31-00; 8:45 am]

BILLING CODE 4810-70-M